DEPARTMENT OF THE INTERIOR

National Park Service

General Management Plan, Environmental Impact Statement, Frederick Law Olmsted National Historic Site, MA

AGENCY: National Park Service, Department of the Interior.

ACTION: Notice of Intent to prepare an Environmental Impact Statement for the General Management Plan, Frederick Law Olmsted National Historic Site (NHS).

SUMMARY: Pursuant to the National Environmental Policy Act of 1969, 42 U.S.C. 4332(2)(C), the National Park Service is preparing an Environmental Impact Statement (EIS) for the General Management Plan (GMP) for the Frederick Law Olmsted National Historic Site, Massachusetts. The existing GMP dates from 1983, when the park started operations, and needs major updates. An updated GMP will provide fundamental management guidance to enable the park to strategically plan for long-term resource management, visitor use, and partnerships. In cooperation with the Town of Brookline, MA, attention will also be given to resources outside the boundaries that affect the integrity of the Frederick Law Olmsted National Historic Site. The plan will identify management alternatives for the site. Major issues include: (1) Developing strategies for the ongoing preservation of the structures, grounds, and collections; (2) providing functional dedicated space for interpretive and educational programs and media; (3) resolving parking and public access issues; (4) developing strategies for reaching diverse audiences; (5) providing archives reference facilities and services that meet present and future demands; (6) providing readily accessible archives storage facilities that meet the needs of the collection; (7) addressing facility needs for park headquarters and the shared park maintenance building; (8) developing strategies for conserving the adjacent historic setting and the larger historic context; (9) strengthening partnerships with related national and local nonprofit organizations and communities.

The Draft EIS/General Management Plan is expected to be available for public review in 2010. After public and interagency review of the draft document, comments will be considered and a final GMP/EIS report will be prepared that contains a preferred alternative for management of the Frederick Law Olmsted NHS, followed by a Record of Decision.

DATES: The NPS will hold a public scoping meeting, which will provide opportunities to ask questions and raise issues concerning the General Management Plan for the Frederick Law Olmsted National Historic Site. Information on the time and place of the public scoping meeting will be publicized through the local news media serving the region around the historic site and the NPS Planning, Environment, and Public Comment Web site at http://parkplanning.nps.gov.

FOR FURTHER INFORMATION CONTACT: Further Information and Addresses: Persons who wish to comment orally or in writing, or who require further information are invited to contact James O'Connell, Project Manager, National Park Service, Northeast Region Boston Office, 15 State Street, Boston, MA 02109-3572, (617) 223-5222; fax -5164; e-mail at Jim_O'Connell@nps.gov.

Dated: July 14, 2008.
Michael T. Reynolds,
Deputy Regional Director, Northeast Region, National Park Service.

[FR Doc. E8-20982 Filed 9-10-08; 8:45 am]

BILLING CODE 4310-AW-M